DEPARTMENT OF COMMERCE

International Trade Administration

[A-557-805]

Extruded Rubber Thread from Malaysia; Rescission of Antidumping Duty Administrative Review

AGENCY: Import Administration, International Trade Administration, Department of Commerce.

ACTION: Notice of Rescission of the Antidumping Duty Administrative Review for the Period October 1, 2001, through September 30, 2002.

EFFECTIVE DATE: February 6, 2003.

FOR FURTHER INFORMATION CONTACT: Irina Itkin or Elizabeth Eastwood, Office of AD/CVD Enforcement Group I, Import Administration, International Trade Administration, U.S. Department of Commerce, 14th Street and Constitution Avenue, NW, Washington, DC 20230; telephone: (202) 482-0656 or (202) 482-3874, respectively.

SUPPLEMENTARY INFORMATION:

Background

On October 2, 2002, the Department published in the Federal Register (67 FR 61849) a notice of opportunity to request an administrative review of the antidumping order regarding extruded rubber thread from Malaysia for the period October 1, 2001, through September 30, 2002. In accordance with 19 CFR 351.213(b)(2), on October 31, 2002, one producer/exporter of extruded rubber thread (i.e., Heveafil Sdn. Bhd. and Filmax Sdn. Bhd. (collectively “Heveafil”)) requested a review of the antidumping duty order on extruded rubber thread from Malaysia.

On November 22, 2002, the Department initiated an administrative review for this company (67 FR 70402) and issued it a questionnaire. Heveafil requested an extension to respond to the questionnaire on December 10, 2002, which the Department granted.

On January 13, 2003, Heveafil withdrew its request for review.

Rescission of Review

Heveafil withdrew its request for an administrative review for the above-referenced period on January 13, 2003. Therefore, because no other interested party requested a review for this period of review, in accordance with 19 CFR 351.213(d)(1) and consistent with our practice, we are rescinding this review of the antidumping duty order on extruded rubber thread from Malaysia for the period of October 1, 2001, through September 30, 2002. This notice is published in accordance with section 751 of the Tariff Act of 1930, as amended, and 19 CFR 351.213(d)(4).

Dated: January 31, 2003.
Laurie Parkhill,
Acting Deputy Assistant Secretary Import Administration.

[FR Doc. 03-2957 Filed 2-5-03; 8:45 am]

BILLING CODE 3510-DS-S